DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 15, 2001.

Interested persons are invited to submit written comments regarding the subject matter of the investigations to the Director, Division of Trade Adjustment Assistance, at the address shown below, not later than October 15, 2001.

The petitions filed in this case are available for inspection at the Office of the Director, Division of Trade Adjustment Assistance, Employment and Training Administration, U.S. Department of Labor, Room C-5311, 200 Constitution Avenue, NW., Washington, DC 20210.

Signed at Washington, D.C. this 20th day of August, 2001.
Edward A. Tomchick,
Director, Division of Trade Adjustment Assistance.

Appendix
[Petitions Instituted on 08/20/2001]
TA-W | Subject firm (petitioners) | Location | Date of petition | Product(s)
39,837 | Wirtz Manufacturing Co. (Wrks) | Port Huron, MI | 07/23/2001 | Rubber Molds.
39,838 | Craftline Wood Products (Co.) | Mt. City, TN | 08/02/2001 | Bird Houses, Bird Feeders.
39,839 | Honeywell Advanced Circuit (Wrks) | Roseville, MN | 08/03/2001 | Printed Circuit Boards.
39,840 | Mini Lace, Inc. (Wrks) | Hialeah, FL | 08/03/2001 | Lace.
39,841 | Harney Coach Works (Wrks) | Hines, OR | 07/12/2001 | Motor Homes.
39,842 | Dallas Semiconductor (Wrks) | Dallas, TX | 08/01/2001 | Integrated Circuits.
39,843 | Ciba Specialty Chemicals (Wrks) | Old Bridge, NJ | 08/08/2001 | Water Treatment Chemicals.
39,844 | Paramount Headwear, Inc. (Comp) | Marble Hill, MO | 08/09/2001 | Headwear.
39,845 | RB and W Corp. (USWA) | Coraopolis, PA | 08/06/2001 | Fasteners for Auto Industry.
39,846 | Neville Chemical Co. (USWA) | Pittsburgh, PA | 08/06/2001 | Hydro Carbon Resins.
39,847 | United Tool and Die (Wrks) | Meadville, PA | 07/30/2001 | Plastic Injection Molds.
39,848 | Trane Co. (IAMAW) | LaCrosse, WI | 08/06/2001 | Air Conditioning Equipment.
39,849 | Square D Co. (Wrks) | Huntington, IN | 08/06/2001 | Transformers.
39,850 | Seagate Technology (Wrks) | Shakopee, MN | 07/24/2001 | Magnet Assemblies.
39,851 | Barko Hydraulics (Wrks) | Superior, WI | 08/02/2001 | Hydraulic Knuckleboom Loaders.
39,852 | Alfred Angelo (UNITE) | Horsham, PA | 08/07/2001 | Wedding Gowns and Bridesmaid Gowns.
39,853 | Altek, Inc. (Wrks) | Liberty Lake, WA | 08/21/2001 | Plastic Injection Molds.
39,854 | Advanced Web Universal (Wrks) | Merriville, IN | 08/03/2001 | Slitting and Rewinding Machines.
39,855 | Xerox Corp. (UNITE) | Oklahoma City, OK | 08/01/2001 | XP808 Resins.
39,856 | Krisport, Inc. (Wrks) | Wheeling, WV | 08/07/2001 | Swimwear.
39,857 | Matco East Distribution (Comp) | Verona, VA | 08/09/2001 | Touch Screen Monitors.
39,858 | Fedders/Columbia Special (Wrks) | Columbia, TN | 08/09/2001 | Air Conditioners, Dehumidifiers Parts.
39,859 | Modern Line Products (Wrks) | Indiana, MS | 08/06/2001 | Outdoor Power Equipment.
39,860 | Sheftex USA, Inc. (Wrks) | St. Johnsbury, VT | 08/03/2001 | Comforters, Draperies.
39,861 | Swimwear Anywhere, Inc. (UNITE) | Farmingdale, NY | 07/31/2001 | Ladies' Swimwear.
39,862 | Jac Rosa Fashions, Inc. (UNITE) | Brooklyn, NY | 07/31/2001 | Ladies' Rainwear.
39,863 | Lynn Ann Fashions (UNITE) | Brooklyn, NY | 07/31/2001 | Ladies' Dresses.
39,864 | U.S. Consolidation, Inc. (UNITE) | Newark, NJ | 07/31/2001 | Ladies' Sportswear.
39,865 | Schaevitz Sensors (Wrks) | Hampton, VA | 08/07/2001 | Electrical Sensors.
39,866 | Halsey Drug Co., Inc. (Comp) | Brooklyn, NY | 08/02/2001 | Pharmaceuticals.
39,867 | Glaxo SmithKline (Comp) | Piscataway, NJ | 08/07/2001 | Monosodiumticarcdillin.
39,868 | Yarway Corp. (Comp) | Blue Bell, PA | 08/08/2001 | Steam Traps, Hancock Valves.
39,869 | Cognis Corp., Lock Haven (Wrks) | Castanea, PA | 08/08/2001 | Dye Intermediates.
39,870 | Grupo Mexico Asarco, Inc. (Wrks) | El Paso, TX | 08/07/2001 | Smelted and Refined Ore's Concentrates.
39,871 | McCord Winn Textron (Comp) | Manchester, NH | 08/08/2001 | Automotive Fuel Pump Motors.
39,872 | De-Sta-Co Manufacturing (Wrks) | Arden, NC | 08/07/2001 | Automotive Steel Valves.
39,873 | Iomega Corp. (Wrks) | Ogden, UT | 08/07/2001 | Computer Peripherals.
39,874 | Zinc Corp. of America (Wrks) | Hailesboro, NY | 08/09/2001 | Zinc Concentrate.
39,875 | Maida Development Co. (Wrks) | Hampton, VA | 08/09/2001 | Electrical Cord Plugs.
39,876 | Elastic Corp. of America (Comp) | Hemingway, SC | 07/31/2001 | Narrow Elastic Tapes.
39,877 | Sweetheart Cup Co. (IBEW) | Springfield, MO | 08/09/2001 | Paper and Plastic Food Products.
39,878 | Pennzoil/Quaker State (Wrks) | Shreveport, LA | 08/08/2001 | Gasolines, Diesel, Foodgrade Waxes.
39,879 | Northwest Wood Products (Comp) | Kettle Falls, WA | 08/07/2001 | Decorative Wood Shelves.
39,880 | Tuscarora Yarns, Inc. (Comp) | Kinston, NC | 08/06/2001 | Yarns.
39,881 | Marley Cooling Tower Co. (BSOIW) | Louisville, KY | 08/06/2001 | Water Cooling Towers.

[FR Doc. 01-24827 10-3-01; 8:45 am]

BILLING CODE 4510-30-M